DEPARTMENT OF COMMERCE

Foreign-Trade Zones Board

[B-49-2015]

Foreign-Trade Zone 84—Houston, Texas, Application for Subzone Expansion, Subzone 84P, Houston Refining LP, Houston and Pasadena, Texas

An application has been submitted to the Foreign-Trade Zones Board (the Board) by the Port of Houston Authority, grantee of FTZ 84, requesting additional acreage within Subzone 84P on behalf of Houston Refining LP, located in Houston and Pasadena, Texas. The application was submitted pursuant to the provisions of the Foreign-Trade Zones Act, as amended (19 U.S.C. 81a-81u), and the regulations of the Board (15 CFR part 400). It was formally docketed on August 3, 2015.

Subzone 84P was approved on March 6, 1998 (Board Order 961, 63 FR 13170, 3/19/1998) and currently consists of four sites totaling 645 acres: Site 1 (500 acres)—refinery complex located at 12000 Lawndale Road, on the Houston Ship Channel, within the city limits of both Houston and Pasadena; Site 2 (20 acres)—Allendale Tank Farm located south of the refinery, across Lawndale Road; Site 3 (65 acres)—South Tank Farm located south of the refinery, across Lawndale Road, east of Site 2; and, Site 4 (60 acres)—225 Tank Farm located south of Sites 1-3, across State Highway 225. The applicant is requesting authority to expand existing Site 1 to include an additional 5.05 acres (new site total—505.05 acres). No authorization for production activity has been requested at this time.

In accordance with the Board's regulations, Camille Evans of the FTZ Staff is designated examiner to review the application and make recommendations to the Executive Secretary.

Public comment is invited from interested parties. Submissions shall be addressed to the Board's Executive Secretary at the address below. The closing period for their receipt is September 15, 2015. Rebuttal comments in response to material submitted during the foregoing period may be submitted during the subsequent 15-day period to September 30, 2015.

A copy of the application will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Camille Evans at Camille.Evans@trade.gov or (202) 482-2350.

Dated: August 3, 2015.
Andrew McGilvray,
Executive Secretary.

[FR Doc. 2015-19372 Filed 8-5-15; 8:45 am]

BILLING CODE 3510-DS-P